DEPARTMENT OF COMMERCE

National Oceanic and Atmospheric Administration

[I.D. 081104E]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a joint public meeting of its Coral Scientific and Statistical Committees (SSC) and its Coral Advisory Panel (AP).

DATES: The Council's Coral SSC/AP will convene from 1 p.m. to 5 p.m. on Thursday, September 2, 2004.

ADDRESSES: The meeting will be at the DoubleTree Guest Suites Tampa Bay, 3050 North Rocky Point Drive West, Tampa, FL; telephone: 813-888-8800.

Council address: Gulf of Mexico Fishery Management Council, 3018 U.S. Highway 301 North, Suite 1000, Tampa, FL 33619.

FOR FURTHER INFORMATION CONTACT: Dr. Rick Leard, Deputy Executive Director, Gulf of Mexico Fishery Management Council, 3018 U.S. Highway 301 North, Suite 1000, Tampa, FL 33619; telephone: 813-228-2815.

SUPPLEMENTARY INFORMATION: The Gulf of Mexico Fishery Management Council (Council) will jointly convene its Special Coral Scientific and Statistical Committee (SSC) and Coral Advisory Panel (AP) to discuss information relevant to the location of coral reef resources in the Gulf of Mexico, particularly deep coral reefs and any potential impacts from existing or reasonably foreseeable fishing activities. The Joint Coral AP/SSC will also be asked to provide recommendations relative to a Rulemaking Petition to Protect Deep-Sea Coral and Sponge Habitat filed with the Secretary of Commerce by Oceana.

Although non-emergency issues not contained in the agenda may come before the Joint Coral AP/SSC for discussion, in accordance with the Magnuson-Stevens Fishery Conservation and Management Act (Magnuson Act), those issues may not be the subject of formal action during this meeting. The Joint Coral AP/SSC actions will be restricted to those issues specifically identified in this notice and any issues arising after publication of this notice that require emergency action under Section 305(c) of the Magnuson Act, provided the public has been notified of the Council's intent to take final action to address the emergency. A copy of the Joint Coral AP/SSC agenda can be obtained by calling (813) 228-2815.

Special Accommodations

The meeting is open to the public and is physically accessible to people with disabilities. Requests for sign language interpretation or other auxiliary aids should be directed to the Council office (see ADDRESSES) by August 26, 2004.

The Gulf of Mexico Fishery Management Council is 1 of 8 Regional Fishery Management Councils that were established by the MSFCMA of 1976, as amended. The Gulf of Mexico Fishery Management Council prepares fishery management plans and amendments that are designed to manage fishery resources to the 200-mile limit in the U.S. Gulf of Mexico.

Dated: August 13, 2004.
Alan D. Risenhoover,
Acting Director, Office of Sustainable Fisheries, National Marine Fisheries Service.

[FR Doc. E4-1845 Filed 8-18-04; 8:45 am]

BILLING CODE 3510-22-S